NATIONAL CREDIT UNION ADMINISTRATION

Sunshine Act; Notice of Agency Meeting

TIME AND DATE: 10 a.m., Thursday, September 16, 2010.

PLACE: Board Room, 7th Floor, Room 7047, 1775 Duke Street, Alexandria, VA 22314-3428.

STATUS: Open.

MATTERS TO BE CONSIDERED: 1. Briefing on Dodd-Frank Act Implementation.

2. Final Rule—Part 701 of NCUA's Rules and Regulations, Secondary Capital Accounts.

3. Final Rule—Part 701 of NCUA's Rules and Regulations, Short-term, Small amount Loans.

4. Vantage Credit Union's Appeal of Region IV's Denial of its Request to Convert to a Federal Community Charter.

5. Insurance Fund Report.

6. Adoption of FASAB Standards for Financial Reporting on the National Credit Union Share Insurance Fund.

7. National Credit Union Share Insurance Fund Premium.

RECESS: 11:15 a.m.

TIME AND DATE: 11:30 a.m., Thursday, September 16, 2010.

PLACE: Board Room, 7th Floor, Room 7047, 1775 Duke Street, Alexandria, VA 22314-3428.

STATUS: Closed.

MATTERS TO BE CONSIDERED:

1. Delegations of Authority (3). Closed pursuant to some or all of the following exemptions: (2), (8), (9)(A)(ii) and (B).

2. Consideration of Supervisory Activities. Closed pursuant to exemptions (8), (9)(A)(ii) and 9(B).

FOR FURTHER INFORMATION CONTACT: Mary Rupp, Secretary of the Board, Telephone: 703-518-6304.

Mary Rupp,
Board Secretary.

[FR Doc. 2010-22886 Filed 9-9-10; 4:15 pm]

BILLING CODE 7535-01-P